DEPARTMENT OF ENERGY

Federal Energy Regulatory Commission

Combined Notice of Filings #1

Take notice that the Commission received the following electric corporate filings:

Docket Numbers: EC18-84-000.

Applicants: Star Energy Partners, LLC.

Description: Application for Authorization Under Section 203 of the Federal Power Act, et al. of Star Energy Partners, LLC.

Filed Date: 4/16/18.

Accession Number: 20180416-5095.

Comments Due: 5 p.m. ET 5/7/18.

Take notice that the Commission received the following electric rate filings:

Docket Numbers: ER10-3297-013.

Applicants: Powerex Corp.

Description: Compliance filing: Compliance Filing to March 29 Letter Order to be effective 3/29/2018.

Filed Date: 4/16/18.

Accession Number: 20180416-5129.

Comments Due: 5 p.m. ET 5/7/18.

Docket Numbers: ER11-3917-001; ER10-2774-004.

Applicants: Mojave Solar LLC, Arizona Solar One LLC.

Description: Notice of Change in Status of Mojave Solar LLC, et al.

Filed Date: 4/13/18.

Accession Number: 20180413-5302.

Comments Due: 5 p.m. ET 5/4/18.

Docket Numbers: ER18-1375-000.

Applicants: PJM Interconnection, L.L.C.

Description: § 205(d) Rate Filing: Original WMPA SA No. 5052; Queue No. AD1-028 to be effective 4/5/2018.

Filed Date: 4/16/18.

Accession Number: 20180416-5075.

Comments Due: 5 p.m. ET 5/7/18.

Docket Numbers: ER18-1376-000.

Applicants: Midcontinent Independent System Operator, Inc.

Description: § 205(d) Rate Filing: 2018-04-16_SA 1558 Forward Energy-ATC 8th Rev LGIA (G368) to be effective 4/2/2018.

Filed Date: 4/16/18.

Accession Number: 20180416-5159.

Comments Due: 5 p.m. ET 5/7/18.

Docket Numbers: ER18-1377-000.

Applicants: Bayonne Plant Holding, L.L.C.

Description: Tariff Cancellation: Notice of Cancellation to be effective 6/1/2018.

Filed Date: 4/16/18.

Accession Number: 20180416-5165.

Comments Due: 5 p.m. ET 5/7/18.

Take notice that the Commission received the following electric securities filings:

Docket Numbers: ES18-29-000.

Applicants: Orange and Rockland Utilities, Inc.

Description: Application of Orange and Rockland Utilities, Inc. for an Order Authorizing the Issue and Sale of Short-term Debt.

Filed Date: 4/16/18.

Accession Number: 20180416-5092.

Comments Due: 5 p.m. ET 5/7/18.

Take notice that the Commission received the following qualifying facility filings:

Docket Numbers: QF18-610-000.

Applicants: Trustees of Princeton University.

Description: Form 556 of Trustees of Princeton University [Plainsboro].

Filed Date: 2/8/18.

Accession Number: 20180208-5154.

Comments Due: Non Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 16, 2018.
Nathaniel J. Davis, Sr.,
Deputy Secretary.

[FR Doc. 2018-08305 Filed 4-19-18; 8:45 am]

BILLING CODE 6717-01-P